FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 1, 2013.

A. Federal Reserve Bank of Chicago (Colette A. Fried, Assistant Vice President) 230 South LaSalle Street, Chicago, Illinois 60690-1414:

1. Robert H. Edelman, Milwaukee, Wisconsin as Trustee for a Voting Trust being established by Robert Gunville, Jr., to acquire voting shares of Niagara Bancorporation, Inc., and thereby indirectly acquire voting shares of The First National Bank of Niagara, both in Niagara, Wisconsin.

B. Federal Reserve Bank of Minneapolis (Jacqueline G. King, Community Affairs Officer) 90 Hennepin Avenue, Minneapolis, Minnesota 55480-0291:

1. Joseph Robert Dickson III, Citrus Heights, California, David W. Dickson, Northbrook, Illinois, and Samuel J. Dickson, Fairfax, Minnesota; each to acquire voting shares of Fort Ridgely National Bancorporation, Inc., and thereby indirectly acquire voting shares of First National Bank of Fairfax, both in Fairfax, Minnesota.

Board of Governors of the Federal Reserve System, March 12, 2013.
Margaret McCloskey Shanks,
Deputy Secretary of the Board.

[FR Doc. 2013-06006 Filed 3-14-13; 8:45 am]

BILLING CODE 6210-01-P